DEPARTMENT OF HEALTH AND HUMAN SERVICES

National Institutes of Health

National Heart, Lung, and Blood Institute; Amended Notice of Meeting

Notice is hereby given of a change in the duration of the meeting of the Clinical Trials Review Committee, June 20, 2019, 8:00 a.m. to June 21, 2019, 5:00 p.m., Hilton Garden Inn Bethesda, 7301 Waverly Street, Bethesda, MD 20814 which was published in the Federal Register on February 15, 2019, 84 FR 4490.

The Clinical Trials Review Committee will be reduced to a one-day meeting on June 20, 2019 in the same location. The meeting is closed to the public.

Dated: April 16, 2019.
Ronald J. Livingston, Jr.,
Program Analyst, Office of Federal Advisory Committee Policy.

[FR Doc. 2019-07966 Filed 4-19-19; 8:45 am]

BILLING CODE 4140-01-P